DEPARTMENT OF THE INTERIOR

Bureau of Land Management

[ES-960-1910-BK; Group 61, Louisiana]

Notice of Filing of Plat of Survey; Louisiana

The plat of the dependent resurvey and survey of the boundaries of lands held in trust by the United States, for the Tunica-Biloxi Tribe, in Townships 1 and 2 North, Range 4 East of the Louisiana Meridian, in the State of Louisiana, will be officially filed in Eastern States, Springfield, Virginia 30 calendar days from the date of publication in the Federal Register.

The survey was requested by the Bureau of Indian Affairs.

All inquiries or protests concerning the technical aspects of the survey must be sent to the Chief Cadastral Surveyor, Eastern States, Bureau of Land Management, 7450 Boston Boulevard, Springfield, Virginia 22153, prior to 7:30 a.m., October 26, 2006.

Copies of the plat will be made available upon request and prepayment of the reproduction fee of $2.75 per copy.

Dated: September 25, 2006.
Micheal W. Young,
Chief Cadastral Surveyor.

[FR Doc. E6-16321 Filed 10-2-06; 8:45 am]

BILLING CODE 4310-GJ-P